DEPARTMENT OF HOMELAND SECURITY

U.S. Immigration and Customs Enforcement

[OMB Control Number 1653-0054]

Agency Information Collection Activities; Extension, Without Change, of a Currently Approved Collection: Training Plan for Science, Technology, Engineering, and Mathematics (STEM) Optional Practical Training (OPT) Students

AGENCY: U.S. Immigration and Customs Enforcement, Department of Homeland Security.

ACTION: 60-Day notice.

SUMMARY: In accordance with the Paperwork Reduction Act (PRA) of 1995, U.S. Immigration and Customs Enforcement (ICE), the Department of Homeland Security (DHS), will submit the following Information Collection Request (ICR) to the Office of Management and Budget (OMB) for review and clearance.

DATES: Comments are encouraged and will be accepted until June 4, 2021.

ADDRESSES: All submissions received must include the OMB Control Number 1653-0054 in the body of the correspondence, the agency name and Docket ID ICEB-2018-0003-0001. All comments received will be posted without change to http://www.regulations.gov, including any personal information provided.

(1) Online. Submit comments via the Federal eRulemaking Portal website at http://www.regulations.gov under e-Docket ID number ICEB-2018-0003-0001.

FOR FURTHER INFORMATION CONTACT: If you have questions related to this collection, call or email Sharon Snyder, Student and Exchange Visitor Program (SEVP), 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, Without Change, of a Currently Approved Collection.

(2) Title of the Form/Collection: Training Plan for STEM OPT Students.

(3) Agency form number, if any, and the applicable component of the Department of Homeland Security sponsoring the collection: Form I-983; U.S. Immigration and Customs Enforcement.

(4) Affected public who will be asked or required to respond, as well as a brief abstract: Primary: Individuals or households. The Form I-983 serves as a planning document for STEM OPT students, the SEVP-certified school officials, and the employers. The Training Plan for STEM OPT Students also serves as an evidentiary document for SEVP, by tracking the STEM OPT student's progress, setting forth the terms and conditions of the practical training, and documenting the obligations of the three parties that are involved—the F student, the SEVP-certified school, and the employer.

The student and the employer must each complete and sign their part of the Form I-983. The SEVP-certified school will incorporate the completed and signed Form I-983 as part of the student's school file. The SEVP-certified school will make the student's Form I-983 available to DHS upon request.

(5) An estimate of the total number of respondents and the amount of time estimated for an average respondent to respond:

Table 1—Calculation of Annual Reporting Burden for Training Plan
Function | Avg. annual responses | Time per response (hours) | Avg. annual hour burden ¹
Student Burden
Initial Completion of Training Plan | 66,565 | 2.17 | 144,446
12-month Evaluation Requirements | 66,565 | 1.50 | 99,848
Subtotal |  |  | 244,294
DSO Burden
Initial Review of Training Plan & Recordkeeping | 66,565 | 1.33 | 88,531
Review of Evaluation & Recordkeeping | 66,565 | 1.33 | 88,531
Subtotal |  |  | 177,062
Employer Burden
Initial Completion of Training Plan | 66,565 | 4.00 | 266,260
Evaluation Requirements | 66,565 | 0.75 | 49,924
Subtotal |  |  | 316,184
Total Burden Hours |  |  | 737,540
¹ Time per response as shown is rounded to the nearest hundredth.
² Burden estimates for the DSO and Employer respondents include time for reviewing the responses provided by the Student respondents.

(6) An estimate of the total public burden (in hours) associated with the collection: 737,540 annual burden hours.

Dated: March 30, 2021.
Scott Elmore,
PRA Clearance Officer.

[FR Doc. 2021-06892 Filed 4-2-21; 8:45 am]

BILLING CODE 9111-28-P